DEPARTMENT OF VETERANS AFFAIRS

National Commission on VA Nursing; Notice of Meeting

The Department of Veterans Affairs (VA) gives notice under Public Law 92-463 (Federal Advisory Committee Act) that the National Commission on VA Nursing will hold its second meeting on July 29-31, 2002 at the Wyndham Hotel, 1400 M Street NW., Washington, DC 20005. The meeting will begin on Monday, July 29 at 1 p.m. and end on Wednesday, July 31 at 11 a.m.

Established under the “Department of Veterans Affairs Program Enhancements Act of 2001”, the Commission is to consider legislative and organizational policy changes to enhance the recruitment and retention of nurses and other nursing personnel in VA; and to evaluate the future of the nursing profession in VA. The Commission will convene to lay the groundwork for accomplishing its charge and to develop a comprehensive plan for collecting, analyzing, and disseminating data/information. The Commission is chaired by Marilyn M. Pattillo, Ph.D., R.N., C.S., N.P.

The Commission is required, not later than two years from May 8, 2002, to submit to Congress and the Secretary of Veterans Affairs a report on its findings and recommendations.

Members of the public may direct written questions or submit prepared statements for review by the Commission in advance of the meeting, to Ms. Oyweda Moorer, Director of the National Commission on VA Nursing, at Department of Veterans Affairs (108N), 810 Vermont Avenue, NW., Washington, DC 20420. Any member of the public wishing to attend the meeting should contact Ms. Stephanie Williams, Program Analyst at (202) 273-4944.

Dated: July 10, 2002.
By Direction of the Secretary.
Nora E. Egan,
Committee Management Officer.

[FR Doc. 02-17912 Filed 7-15-02; 8:45 am]

BILLING CODE 8320-01-M